NATIONAL COUNCIL ON DISABILITY

Cultural Diversity Advisory Committee Meetings (Teleconferences)

AGENCY: National Council on Disability (NCD).

Times and Dates: 1:30 p.m. EDT, June 13, 2003, and August 15, 2003

Place: National Council on Disability, 1331 F Street, NW., Suite 850, Washington, DC.

Status: All parts of these meetings will be open to the public. Those interested in participating in these meetings should contact the appropriate staff member listed below. Due to limited resources, only a few telephone lines will be available for the conference calls.

Agenda: Roll call, announcements, reports, new business, adjournment.

Contact Person for More Information: Geraldine (Gerrie) Drake Hawkins, Ph.D., Program Specialist, NCD, 1331 F Street, NW., Suite 850, Washington, DC 20004; 202-272-2004 (voice), 202-272-2074 (TTY), 202-272-2022 (fax), ghawkins@ncd.gov (e-mail).

Cultural Diversity Advisory Committee Mission: The purpose of NCD's Cultural Diversity Advisory Committee is to provide advice and recommendations to NCD on issues affecting people with disabilities from culturally diverse backgrounds. Specifically, the committee will help identify issues, expand outreach, infuse participation, and elevate the voices of underserved and unserved segments of this nation's population that will help NCD develop federal policy that will address the needs and advance the civil and human rights of people from diverse cultures.

Dated: May 12, 2003.
Ethel D. Briggs,
Executive Director.

[FR Doc. 03-12167 Filed 5-14-03; 8:45 am]

BILLING CODE 6820-MA-P